DEPARTMENT OF DEFENSE

Department of the Army, Corps of Engineers

Guidelines for Carrying Out Section 221(a) (4) of the Flood Control Act of 1970, as Amended.

AGENCY: United States Army Corps of Engineers, Department of Defense.

ACTION: Notice; extension of comment period.

SUMMARY: The U.S. Army Corps of Engineers (Corps) has updated the existing guidance for providing in-kind credit under Section 221(a)(4) of the Flood Control Act of 1970, as further amended by Section 1018 of the Water Resources Reform and Development Act of 2014. In response to requests to extend the comment period, we are extending the comment period by 30 days.

DATES: Written comments must be submitted on or before October 28, 2015.

ADDRESSES: You may submit comments, identified by docket number COE-2015-0013 by any of the following methods:

Federal eRulemaking Portal: http://www.regulations.gov . Follow the instructions for submitting comments.

Email: Janice.E.Rasgus@usace.army.mil. Include the docket number, COE-2015-0013, in the subject line of the message.

Mail: U.S. Army Corps of Engineers, Attn: CECW-CE, Janice.E.Rasgus, 441 G Street NW., Washington, DC 20314-1000.

Hand Delivery/Courier: Due to security requirements, we cannot receive comments by hand delivery or courier.

Instructions: Direct your comments to docket number COE-2015-0013. All comments received will be included in the public docket without change and may be made available on-line at http://www.regulations.gov, including any personal information provided, unless the commenter indicates that the comment includes information claimed to be Confidential Business Information (CBI) or other information whose disclosure is restricted by statute. Do not submit information that you consider to be CBI, or otherwise protected, through regulations.gov or email. The regulations.gov Web site is an anonymous access system, which means we will not know your identity or contact information unless you provide it in the body of your comment. If you send an email directly to the Corps without going through regulations.gov, your email address will be automatically captured and included as part of the comment that is placed in the public docket and made available on the Internet. If you submit an electronic comment, we recommend that you include your name and other contact information in the body of your comment and with any disk or CD-ROM you submit. If we cannot read your comment because of technical difficulties and cannot contact you for clarification, we may not be able to consider your comment. Electronic comments should avoid the use of any special characters, any form of encryption, and be free of any defects or viruses.

Docket: For access to the docket to read background documents or comments received, go to www.regulations.gov . All documents in the docket are listed. Although listed in the index, some information is not publicly available, such as CBI or other information whose disclosure is restricted by statute. Certain other material, such as copyrighted material, is not placed on the Internet and will be publicly available only in hard copy form.

FOR FURTHER INFORMATION CONTACT: Janice E. Rasgus, Planning and Policy Division, Washington, DC at 202-761-7674.

SUPPLEMENTARY INFORMATION: None.

Dated: September 29, 2015.
Bruce D. Carlson,
Deputy Chief, Planning and Policy Division, Directorate of Civil Works.

[FR Doc. 2015-25284 Filed 10-2-15; 8:45 am]

BILLING CODE 3720-58-P